FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than November 21, 2019.

A. Federal Reserve Bank of Chicago (Colette A. Fried, Assistant Vice President) 230 South LaSalle Street, Chicago, Illinois 60690-1414:

1. Jay Courtney Hammond, Omaha, Nebraska; Logan Lucile Hammond, Nebraska City, Nebraska; and Tad D. Hammond, Nebraska City, Nebraska, as custodian for two minors; as members of a group acting in concert with Tad D. Hammond to form the Hammond Family Control Group to acquire voting shares of Bedford Bancorp, Inc., Bedford, Iowa, and thereby indirectly acquire voting shares of State Savings Bank, Creston, Iowa.

2. Charles S. Lichtigman, Ormond Beach, Florida; individually and together with Edward D. Lightman and Daniel J. Miller, both of Winter Park, Florida; Sanford Miller, James R. Bledsoe, Michael J. Opalewski, Timothy W. Curtis, Philip T. Fleuchaus, and William Navarra, all of Ormond Beach, Florida; James R. Hester, Astor, Florida; and L. Gale Lemerand, Daytona Beach, Florida; as members of a group acting in concert to acquire voting shares of FirState Bancorp, Inc. and thereby indirectly acquire voting shares of 1st State Bank of Mason City, both of Mason City, Illinois.

B. Federal Reserve Bank of Minneapolis (Mark A. Rauzi, Vice President) 90 Hennepin Avenue, Minneapolis, Minnesota 55480-0291:

1. Christian J. Ryan, Byron, Minnesota; to acquire voting shares of Olmsted Bancorporation, Inc., and thereby indirectly acquire voting shares of First Security Bank, both of Byron, Minnesota.

Board of Governors of the Federal Reserve System, November 1, 2019.
Michele Taylor Fennell,
Assistant Secretary of the Board.

[FR Doc. 2019-24241 Filed 11-6-19; 8:45 am]

BILLING CODE P